DEPARTMENT OF THE INTERIOR

National Park Service

Final Environment Impact Statement for Reconstruction of the Furnace Creek Water Collection System, Death Valley National Park, Inyo County, CA; Notice of Availability

SUMMARY: Pursuant to the National Environmental Policy Act (NEPA) of 1969 (Pub. L. 91-190, § 102(2)(c), and the Council on Environmental Quality regulations for implementing NEPA (40 CFR 1500-1508), the U.S. Department of the Interior, National Park Service, and its cooperating agency have completed the Final Environmental Impact Statement (FEIS) for the proposed reconstruction of the Furnace Creek Water Collection System. This water collection system reconstruction project is located in the Furnace Creek area of Death Valley National Park, California. The proposed project would rebuild the outdated water collection system in the Furnace Creek area to deliver a safe and reliable potable and nonpotable water supply to the park's main visitor use area. The FEIS was prepared in accordance with the National Park Service NEPA guidelines (Director's Order 12).

Background

The National Park Service (NPS), Xanterra Parks & Resorts (Xanterra), and the Timbisha Shoshone Tribe (cooperating agency) are the primary water user groups in the Furnace Creek area. The Texas-Travertine Springs complex in the Furnace Creek area may be the most critical water resource in Death Valley National Park. This series of springs provide water for all of the human use needs in the park headquarters area. Infrastructure in this area includes the primary National Park Service administrative offices, three NPS campgrounds, two private resort/visitor services facilities owned and operated by Xanterra, and offices and residences for the Timbisha Shoshone Tribe. The Texas-Travertine Springs complex also provides water that supports a riparian area—a biological community that includes habitat for a minimum of eight endemic special-status aquatic invertebrate species—and a biologically and culturally important mesquite bosque.

The existing water collection system was installed in the 1970's and has been unreliable, subject to failure, and is nearing the end of its useful life span. Many of the existing collection galleries have intermittently tested positive for coliform or E. coli bacteria, experienced unpredictable inputs of soil or organic matter, intermittently and unpredictably produced reduced volumes of water, and collected groundwater that does not meet state drinking water standards. When the system was installed approximately 30 years ago, there was an incomplete understanding of the Furnace Creek area's unique biological resource values, and water conservation strategies were not a priority.

The park proposed to rebuild the antiquated water collection system in the Furnace Creek area to deliver safe and reliable drinking water to the park's main visitor use area and provide separate delivery systems for potable and nonpotable water. As part of the redevelopment of the Furnace Creek water collection system, the proposal would include restoring historic wetland and riparian habitat and providing for the long-term conservation of species endemic to the Furnace Creek area.

Proposal and Alternatives

The Draft EIS identified and analyzed four alternatives for reconstruction of the Furnace Creek Water Collection System; these alternatives are not substantially modified in the FEIS. The first alternative, the No Action Alternative, would result in continued operation and maintenance of the existing water collection system. This alternative also composes an environmental “baseline” from which to compare the potential effects of other alternatives considered. Three “action” alternatives would primarily differ in terms of how each would provide potable water to the Furnace Creek area.

Alternative 2 would provide potable water from rebuilt collection galleries at Travertine Springs Line 3 and Line 4 and from two new groundwater wells in the Texas Springs Syncline. Alternative 2 would treat potable water using a reverse osmosis water treatment plant. Riparian water would be released from Travertine Springs Line 1 and Line 2 and from Texas Springs to restore historic wetland and riparian habitat. The restoration effort would include the incorporation of riparian water release measures that would reduce erosion and promote groundwater infiltration.

Alternative 3 (agency preferred) would provide potable water from two to three new groundwater wells in the Texas Springs Syncline and would treat potable water using a reverse osmosis water treatment plant. Riparian water would be released from all of Travertine Springs and Texas Springs to restore historic wetland and riparian habitat. The restoration effort would include the incorporation of riparian water release measures that would reduce erosion and promote groundwater infiltration. Based on existing information and as documented in the EIS, Alternative 3 has been deemed to be the “environmentally preferable” alternative.

Alternative 4 would provide potable water from Tavertine Springs Lines 2, 3, and 4 and from Texas Springs and would treat water using a reverse osmosis water treatment plant with supplemental water disinfection. Since the NPS would treat all potable water under this alternative, Travertine Springs would not require reconstruction of spring collection boxes or clearing and grubbing of vegetation from the spring water collection areas. Riparian water would be released from Travertine Springs Line 1 and from Texas Springs to restore historic wetland and riparian habitat. The restoration effort would include the incorporation of riparian water release measures that would reduce erosion and promote groundwater infiltration.

Project Planning Background

Public and agency participation has been incorporated in this conservation planning and environmental impact analysis process.

Death Valley National Park held public scoping and informal meetings in 2001 through 2004 to solicit ideas and concerns from park visitors, park staff, Native American groups, scientists, and government agencies. A Notice of Intent to prepare an EIS was published in the Federal Register on November 20, 2000. The NPS conducted an extensive public scoping process for the proposed reconstruction of the Furnace Creek Water Collection System that concluded on March 14, 2001. In addition to the Federal Register notice, information about the public scoping process was provided through local press releases, Web site postings, direct mailings, and the Furnace Creek Visitor Center newsletter.

Three public scoping meetings were held on January 30 (in Pahrump, Nevada), January 31 (in Death Valley National Park), and February 1, 2001 (in Independence, California). The purpose of these meetings was to: (1) Provide participants with an overview of existing conditions and the proposed action; (2) ask participants to identify key issues that should be analyzed during the environmental review and compliance process; and (3) provide an opportunity for participants to ask questions regarding project alternatives and the overall conservation planning and environmental impact analysis process. As a result of the public scoping process, the NPS received two letters via U.S. mail and oral comments at the meetings. Issues identified during the public scoping process were summarized in the Draft EIS under the Planning Issues section, in Chapter I, Purpose and Need. All comments received during the public scoping process were duly considered in preparing the Draft EIS. In addition to public scoping, the park and its cooperating agency have also consulted with the U.S. Fish and Wildlife Service, U.S. Army Corps of Engineers, California State Historic Preservation Office, and Lahontan Regional Water Quality Control Board.

The Draft EIS was available for public review during a 60-day comment period formally initiated with EPA's notice of filing of the document published in the Federal Register on November 14, 2005. The comment period concluded December 12, 2005. The NPS hosted two public meetings during the public review period to encourage comments from the public. The meetings were held on November 15 (in Death Valley National Park) and November 16 (in Pahrump, Nevada). The NPS received 7 comments on the Draft EIS, including 2 comments from unaffiliated individuals and 5 comments from Federal and State agencies. All comments and resposnes are included in the FEIS. Comments from the California Regional Water Quality Control Board and the EPA raised the possibility of additional alternatives for disposal of the brine resulting from the reverse osmosis water treatment process. These techniques are addressed in the possible disposal alternatives considered in the FEIS.

Copies

A printed copy of the FEIS may be obtained by telephoning (760) 786-3243, e-mailing (deva_superintendent@nps.gov), or faxing (760) 786-3283 a request to Death Valley National Park. The document also can be viewed via the Internet at the PEPC Web site http://www.nps.gov/deva/pphtml/documents.html. For further information, please contact: James T. Reynolds, Superintendent, Death Valley National Park, Death Valley, California 92328; telephone: (760) 786-3243.

Decision Process

The National Park Service will execute a Record of Decision not sooner than 30 days following publication by the Environmental Protection Agency of the notice of filing and availability of the FEIS. Announcement of the decision will be noticed in the Federal Register and via local and regional press media. As a delegated EIS, the official responsible for the final decision regarding the Furnace Creek water system is the Regional Director, Pacific West region. Subsequently the official responsible for implementing the approved project will be the Superintendent, Death Valley National Park.

Dated: April 20, 2006.
Jonathan B. Jarvis,
Regional Director, Pacific West Region.

[FR Doc. 06-6072 Filed 7-7-06; 8:45 am]

BILLING CODE 4312-FF-M